FEDERAL COMMUNICATIONS COMMISSION

47 CFR Part 64

[CG Docket Nos. 10-51 and 03-123; FCC 17-26]

Structure and Practices of the Video Relay Services Program

AGENCY: Federal Communications Commission.

ACTION: Final rule; announcement of effective date.

SUMMARY: In this document, the Commission announces that the Office of Management and Budget (OMB) has approved, for a period of three years, the information collection associated with rules adopted in the Commission's document Structure and Practices of the Video Relay Services Program; Telecommunications Relay Services and Speech-to-Speech Services for Individuals with Hearing and Speech Disabilities, Report and Order (Report and Order). This document is consistent with the Report and Order, which stated that the Commission would publish a document in the Federal Register announcing the effective date of those rules.

DATES: 47 CFR 64.604(b)(8) and 64.611(a)(5) and (g)(1)(vii); and amendments to §§ 64.604(b)(4)(iii), 64.611(c)(2)(i), 64.615(a)(3)(i) introductory text and (a)(3)(i)(A), 64.630, 64.5101(b), and 64.5103(m), published at 82 FR 17754, April 13, 2017, are effective October 17, 2017.

FOR FURTHER INFORMATION CONTACT: Michael Scott, Disability Rights Office, Consumer and Governmental Affairs Bureau, at (202) 418-1264, or email: Michael.Scott@fcc.gov.

SUPPLEMENTARY INFORMATION: This document announces that, on October 2, 2017, OMB approved, for a period of three years, the information collection requirements contained in the Commission's Report and Order, FCC 17-26, published at 82 FR 17754, April 13, 2017. The OMB Control Number is 3060-1201. The Commission publishes this document as an announcement of the effective date of the rules. If you have any comments on the burden estimates listed below, or how the Commission can improve the collections and reduce any burdens caused thereby, please contact Cathy Williams, Federal Communications Commission, Room 1-C823, 445 12th Street SW., Washington, DC 20554. Please include the OMB Control Number, 3060-1201, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (844) 432-2275 (videophone), or (202) 418-0432 (TTY).

Synopsis

As required by the Paperwork Reduction Act of 1995 (44 U.S.C. 3507), the FCC is notifying the public that it received OMB approval on October 2, 2017, for the information collection requirements contained in the Commission's rules at §§ 64.604(b)(4)(iii) and (b)(8); 64.611(a)(5), (c)(2)(i), and (g)(1)(vii); 64.615(a)(3)(i) introductory text and (a)(3)(i)(A); 64.630; 64.5101(b); and 64.5103(m).

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1201.

The foregoing notice is required by the Paperwork Reduction Act of 1995, Public Law 104-13, October 1, 1995, and 44 U.S.C. 3507.

The total annual reporting burdens and costs for the respondents are as follows:

OMB Control Number: 3060-1201.

OMB Approval Date: October 2, 2017.

OMB Expiration Date: October 31, 2020.

Title: Video Relay Services, CG Docket Nos. 10-51 & 03-123.

Form Number: N/A.

Type of Review: Revision of a currently approved collection.

Respondents: Business or other for-profit; Individuals or households; Not-for-profit institutions.

Number of Respondents and Responses: 135,350 respondents; 2,395,180 responses.

Estimated Time per Response: 0.5 hours (30 minutes) to 300 hours.

Frequency of Response: Annual, monthly, on-going, one-time, and quarterly reporting requirements; Recordkeeping requirement; Third party disclosure requirement.

Obligation to Respond: Required to obtain or retain benefits. The statutory authority for the information collections is contained in section 225 of the Communications Act. The law was enacted on July 26, 1990, as Title IV of the Americans with Disabilities Act of 1990 (ADA), Public Law 101-336, 104 Stat. 327, 366-69.

Total Annual Burden: 473,809 hours.

Total Annual Cost: $41,000.

Nature and Extent of Confidentiality: Confidentiality is an issue to the extent that individuals and households provide personally identifiable information, which is covered under the FCC's updated system of records notice (SORN), FCC/CGB-4, “Internet-based Telecommunications Relay Service-User Registration Database (ITRS-URD).” As required by the Privacy Act, 5 U.S.C. 552a, the Commission also published a SORN, FCC/CGB-4 “Internet-based Telecommunications Relay Service-User Registration Database (ITRS-URD),” in the Federal Register on February 9, 2015 (80 FR 6963) which became effective on March 23, 2015.

Privacy Impact Assessment: This information collection affects individuals or households. As required by the Office of Management and Budget Memorandum M-03-22 (September 26, 2003), the FCC is in the process of completing the Privacy Impact Assessment.

Needs and Uses: On March 23, 2017, the Commission released Structure and Practices of the Video Relay Services Program et al., FCC 17-26, published at 82 FR 17754, April 13, 2017, (2017 VRS Improvements Order), which among other things, (1) allows VRS providers to assign TRS Numbering Directory 10-digit telephone numbers to hearing individuals for the limited purpose of making point-to-pint video calls, and (2) gives VRS providers the option to participate in an at-home call handling pilot program, subject to certain limitations, as well as recordkeeping and reporting requirements.

Federal Communications Commission.
Marlene H. Dortch,
Secretary.

[FR Doc. 2017-22468 Filed 10-16-17; 8:45 am]

BILLING CODE 6712-01-P